DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Alaska Saltwater Sport Fishing Economic Survey.

Form Number(s): None.

OMB Approval Number: None.

Type of Request: Regular submission.

Burden Hours: 1,380.

Number of Respondents: 3,276.

Average Hours Per Response: 25 minutes.

Needs and Uses: The objective of this project is to collect data necessary for estimating the demand for saltwater fishing trips by Alaska saltwater anglers and for understanding the factors affecting this demand. This information is needed to improve federal management decisions affecting Alaska saltwater recreational fisheries, principally the halibut fishery. The data collection consists of conducting a formal pretest and full implementation of a mail survey using a random sample of U.S. residents who have purchased a license to fish in Alaska.

Affected Public: Individuals or households.

Frequency: One time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 22, 2005.
Gwellnar Banks,
Management Analyst, Office of the Chief Information Officer.

[FR Doc. 05-23410 Filed 11-28-05; 8:45 am]

BILLING CODE 3510-22-P